DEPARTMENT OF COMMERCE

International Trade Administration

[A-428-825]

Stainless Steel Sheet and Strip in Coils from Germany; Antidumping Duty Administrative Review; Time Limits

AGENCY: Import Administration, International Trade Administration, Department of Commerce.

ACTION: Notice of Extension of Time Limits.

SUMMARY: The Department of Commerce (the Department) is extending the time limits for the preliminary results of the 2000-2001 administrative review of the antidumping duty order on stainless steel sheet and strip in coils from Germany. This review covers one manufacturer/exporter of the subject merchandise to the United States and the period July 1, 2000 through June 30, 2001.

EFFECTIVE DATE: February 25, 2002.

FOR FURTHER INFORMATION CONTACT: Patricia Tran at (202) 482-1121 or Robert James at (202) 482-0649, Antidumping and Countervailing Duty Enforcement Group III, Office Eight, Import Administration, International Trade Administration, U.S. Department of Commerce, 14th Street and Constitution Avenue NW, Washington, DC 20230.

SUPPLEMENTARY INFORMATION: On August 20, 2001, in response to requests from the respondent and petitioners, we published a notice of initiation of this administrative review in the Federal Register. See Initiation of Antidumping and Countervailing Duty Administrative Reviews and Requests for Revocation in Part, 66 FR 43570. Pursuant to the time limits for administrative reviews set forth in section 751(a)(3)(A) of the Tariff Act of 1930, as amended (the Act), the current deadlines are April 2, 2002 for the preliminary results and July 31, 2002 for the final results. It is not practicable to complete this review within the normal statutory time limit due to a number of significant case issues, such as major inputs purchased from affiliated and unaffiliated suppliers and the use of downstream sales. Therefore, the Department is extending the time limits for completion of the preliminary results until July 31, 2002 in accordance with section 751(a)(3)(A) of the Act. The deadline for the final results of this review will continue to be 120 days after publication of the preliminary results.

This extension is in accordance with section 751(a)(3)(A) of the Act.

February 15, 2002
Joseph A. Spetrini
Deputy Assistant Secretary for Import Administration, Group III

[FR Doc. 02-4422 Filed 2-22-02; 8:45 am]

BILLING CODE 3510-DS-S